DEPARTMENT OF TRANSPORTATION

Coast Guard

33 CFR Part 167

[USCG-2000-7695]

RIN 2115-AF99

Traffic Separation Scheme: In the Approaches to Los Angeles-Long Beach, CA

AGENCY: Coast Guard, DOT.

ACTION: Notice of proposed rulemaking.

SUMMARY: The Coast Guard proposes amending the existing Traffic Separation Scheme (TSS) in the Approaches to Los Angeles-Long Beach, California. A recent port access route study, which evaluated vessel routing and traffic management measures, validated the proposed amendments. The study was necessary because of major port improvements made to the Ports of Los Angeles and Long Beach. Once implemented, the amended TSS would route commercial vessels farther offshore, providing an extra margin of safety and environmental protection in the San Pedro Channel area and the entrances to the Ports of Los Angeles and Long Beach.

DATES: Comments and related materials must reach the Docket Management Facility on or before August 28, 2000.

ADDRESSES: To make sure your comments and related material are not entered more than once in the docket, please submit them by only one of the following means:

(1) By mail to the Docket Management Facility, (USCG-2000-7695), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents indicated in this preamble as being available in this docket, will become part of this docket and will be available for inspection or copying at room PL-401 on the Plaza level of the Nassif Building, 400 Seventh Street SW., Washington, DC, between 9 a.m. and 5 p.m., Monday through Friday, except Federal holidays. You may also find this docket on the Internet at ­http://dms.dot.gov.

FOR FURTHER INFORMATION CONTACT: For questions on this proposed rule, contact Mike Van Houten, Aids to Navigation Section Chief, Eleventh Coast Guard District, telephone 510-437-2968, e-mail MvanHouten@d11.uscg.mil; Lieutenant Commander Brian Tetreault, Vessel Traffic Management Officer, Eleventh Coast Guard District, telephone 510-437-2951, e-mail Btetreault@d11.uscg.mil; or George Detweiler, Coast Guard, Office of Vessel Traffic Management (G-MWV), at 202-267-0574, e-mail Gdetweiler@comdt.uscg.mil. For questions on viewing or submitting material to the docket, call Dorothy Beard, Chief, Dockets, Department of Transportation, telephone 202-366-9329.

SUPPLEMENTARY INFORMATION:

Request for Comments

We encourage you to participate in this rulemaking by submitting comments and related material. If you do so, please include your name and address, identify the docket number for this rulemaking (USCG-2000-7695), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this proposed rule in view of them.

Public Meeting

We do not now plan to hold a public meeting. But you may request one by submitting a request to the Docket Management Facility at the address under ADDRESSES explaining why one would be beneficial. If we determine that one would aid this rulemaking, we will hold one at a time and place announced by a later notice in the Federal Register.

Background and Purpose

Under the Ports and Waterways Safety Act (33 U.S.C. 1221-1232) (PWSA), the Coast Guard establishes Traffic Separation Schemes (TSS's), where necessary, to provide safe access routes for vessels proceeding to or from U.S. ports. Before implementing new TSS's or modifying existing ones, we conduct a port access route study (PARS). Through the PARS process, we consulted with affected parties to reconcile the need for safe access routes with the need to accommodate other reasonable uses of the waterway, such as oil and gas exploration, deepwater port construction, establishment of marine sanctuaries, and recreational and commercial fishing. If a study recommends a new or modified TSS we must initiate a rulemaking to implement the TSS. Once a TSS is established, the right of navigation is considered paramount within the TSS.

Existing Los Angeles-Long Beach TSS

The current TSS in the approaches to Los Angeles-Long Beach is a two-pronged TSS that abuts the Santa Barbara Channel TSS. It was adopted by the International Maritime Organization (IMO) in 1975. The current TSS and Precautionary Area are reflected on National Oceanic and Atmospheric Administration (NOAA) nautical chart 18746 and in “Ships Routeing,” Sixth Edition 1991, International Maritime Organization. Consistent with the PWSA, we initiated a PARS of the California coast in 1979. Study results were published in the early to mid 1980's. The study evaluated potential traffic density patterns, waterways use conflicts, and the need for safe access routes in offshore areas. It did not recommend any changes to the Los Angeles-Long Beach TSS.

Recent Port Access Route Study

From 1993 through 1996, we conducted a PARS to analyze vessel routing measures in the approaches to California ports. The study considered the results and findings of several other related studies. We published the study results in the Federal Register on October 25, 1996 (61 FR 55248). The PARS concluded that no changes to the TSS in the approaches to Los Angeles-Long Beach were necessary at that time.

Los Angeles-Long Beach PARS

In 1995, the Ports of Los Angeles and Long Beach initiated major port improvement projects. These projects are near completion and include the following:

• Lengthening of the Los Angeles Approach Channel to extend approximately 3.5 nautical miles beyond the Los Angeles breakwater.

• Deepening of the Los Angeles Approach Channel to a project depth of 81 feet.

• A slight shift of the Long Beach Approach to a 355° True inbound course.

• Deepening of the Long Beach Approach Channel to a project depth of 69 feet.

We published a notice of study in the Federal Register (64 FR 12139, March 11, 1999) which announced that we would conduct a PARS for the approaches to Los Angeles and Long Beach. A notice of study results was published in the Federal Register on May 19, 2000 (65 FR 31856). The PARS evaluated the potential effects of these recent port improvement projects on navigational safety and vessel traffic management efficiency. It concluded that modifications to the TSS in the approaches to Los Angeles-Long Beach and the Precautionary Area are necessary for the safety of the maritime community utilizing the Ports of Los Angeles and Long Beach.

Discussion of Proposed Rule

This rulemaking would amend the existing TSS in the approaches to Los Angeles-Long Beach. The existing TSS is delineated in “Ships Routing,” Sixth Edition 1991, International Maritime Organization, but not yet codified in the Code of Federal Regulations (CFR). This proposed rulemaking would codify the amended TSS into 33 CFR part 167. The amendments are based on the recommendations of the 1999 PARS. Without changes to the traffic lanes, the Precautionary Area, and the Regulated Navigation Area (RNA), the longer and deeper channels would create vessel traffic management problems and increase the risk of collision for vessels operating in the area. We propose the following changes to the existing TSS:

• Expand the Precautionary Area approximately 2.2 nautical miles to the south.

• Shift the western traffic lane approximately 2.2 nautical miles to the south.

• Shift the southern traffic lane approximately 3 miles to the west.

Expand the Precautionary Area

The existing Precautionary Area should be amended to provide enhanced navigational safety in light of the modifications to the ports of Los Angeles and Long Beach previously discussed. The western and southern TSS's branch into two harbor entrances and crossing situations are unavoidable as traffic patterns cross in all areas of the Precautionary Area and the RNA. Port improvements will allow even larger vessels to call on Los Angeles and Long Beach. These larger, less maneuverable ships will be constrained to the channels.

The current practice of freighters, tankers, tugs and barges, fishing boats, and pleasure craft converging in the Precautionary Area will continue to present hazards for all mariners. Fill and construction activities with the Los Angeles/Long Beach Harbors and development of a shallow water habitat have constricted the amount of room available for small commercial and recreational vessels to maneuver within the Outer Harbor and in the area immediately outside the San Pedro, Middle, and Long Beach breakwaters. This has the effect of concentrating traffic flows and placing small vessels more directly in competition with deep draft vessels for use of the Precautionary Area.

Expansion of the Precautionary Area would result in several positive impacts for safe navigation. First, the larger Precautionary Area would give vessels of all types, sizes, and drafts more time and room to maneuver in their approach to or departure from the ports. Second, the Commander, Eleventh Coast District, is planning modifications to the San Pedro Bay Regulated Navigation Area (RNA), promulgated at 33 CFR 165.1109, to geographically match the RNA to the expanded Precautionary Area. When specified categories of vessels enter the RNA, they are required to slow. This allows more time for vessel traffic management, e.g., queuing of vessels arriving and departing during peak periods and coordinating passing arrangements. Finally, the expanded Precautionary Area should be well adapted to the lengthened Los Angeles entrance channel.

Relocate the Western and Southern TSS's

The existing western and southern TSS's do not yield safe or practical approaches to the improved Long Beach and Los Angeles entrance channels. The lengthened entrance channels extend beyond the entrance to the existing western TSS. This proposed rule would shift the western TSS to the south and the southern TSS to the west. These changes would reduce the maneuvering difficulties for vessels approaching and departing the Los Angeles-Long Beach Port Complex. The proposed shifts would allow even the largest vessels safe transit between both ports and the western TSS.

Relocating the southern TSS westward would also have distinct advantages. First, the proposed shift would align the southern TSS with Long Beach channel and would allow a more direct approach to Los Angeles channel (proposed northbound coastwise lane at course 340° True/southbound coastwise lane at course 160° True). Second, by shifting the existing southern TSS, oil platforms located in the TSS separation zone would no longer be in the TSS, which would increase the safety of the platforms and transiting vessels. Finally, the proposed southern lane would be properly aligned with the proposed Precautionary Area.

Modifications to the RNA

The Commander, Eleventh Coast Guard District, plans to modify the existing San Pedro Bay RNA. Specifically, the geographic coordinates of the modified RNA would match those of the proposed Precautionary Area. A separate notice of proposed rulemaking (NPRM) reflecting the proposed changes to the RNA will be published in the Federal Register. The RNA rulemaking will also address vessel operating requirements; vessel size, speeds, draft limitations; operating conditions; pilot boarding areas; and restrictions under hazardous conditions.

Regulatory Evaluation

This proposed rule is not a “significant regulatory action” under section 3(f) of Executive Order 12866 and does not require an assessment of potential costs and benefits under section 6(a)(3) of that Order. It has not been reviewed by the Office of Management and Budget under that Order. It is not “significant” under the regulatory policies and procedures of the Department of Transportation (DOT) (44 FR 11040; February 26, 1979).

We expect the economic impact of this proposed rule to be so minimal that a full Regulatory Evaluation under paragraph 10e of the regulatory policies and procedures of DOT is unnecessary. The costs and benefits of this proposed rulemaking are summarized below.

Costs

The proposed amendments to the TSS's in the approaches to Los Angeles-Long Beach would result in a slight increase in transit times and operating costs for vessels using the TSS's to call on the Los Angeles-Long Beach Port complex. Most of the vessels using the TSS are large commercial vessels such as container ships and tankers. The following calculations assume vessels arriving or departing from the north or south are using the proposed western and southern TSS's, respectively. The distance for vessels arriving from the north (3600/year) will increase by approximately 2.35 nautical miles (nm). The distance for vessels departing to the north (3100/year) will increase by approximately 1.6 nm. The distance for vessels arriving from the south (2100/year) will increase by approximately 0.40 nm. The distance for vessels departing to the south (2600/year) will increase by approximately 1.2 nm. Assuming an average transit speed of 12 knots, the time per transit arriving from the north would increase by .20 hr, departing to the north by .14 hr, arriving from the south by .04 hr, and departing to the south by .10 hr. This corresponds to 1154 additional hours per year for vessels arriving or departing to the north [(3600 transits × .20 hr/transit) + (3100 transits × .14 hr/transit)] and 344 additional hours per year for vessels arriving or departing to the south [(2100 transits × .04 hr/transit) + (2600 transits × .1 hr/transit)]. Assuming a fuel cost of approximately $600.00 per hour, the estimated increase in costs for the industry would be $898,800.00 per year [(1154 hours + 344 hours) × $600/hr].

Vessel operators would incur the minimal cost of plotting new coordinates on their existing charts or purchasing updated charts, when available.

Benefits

The proposed amendments to the TSS's in the approaches to Los Angeles-Long Beach would increase the margin of safety for all vessels utilizing the Ports of Los Angeles and Long Beach. The larger Precautionary Area and amended traffic lanes would decrease the chance of collisions and groundings, particularly for the deepest draft vessels, which require significant room to maneuver.

The larger Precautionary Area would give vessels of all types, sizes, and drafts more time and room to maneuver in their approach to or departure from the ports. The proposed expanded Precautionary Area is also well adapted to the lengthened Los Angeles entrance channel.

The existing western and southern TSS's do not yield safe or practical approaches to the improved Long Beach and Los Angeles entrance channels. The lengthened entrance channels extend beyond the entrance to the existing western traffic lane. This proposed rule shifts the western TSS to the south and the southern TSS to the west. These changes would reduce the maneuvering difficulties for vessels approaching and departing the Los Angeles-Long Beach Port Complex. The proposed shifts would allow even the largest vessels safe transit between both ports and the western lane.

Relocating the southern TSS westward would align the southern TSS with Long Beach channel and would allow a more direct approach to Los Angeles channel. In addition, the oil platforms would no longer be in the southern lane separation zone, which would increase the safety of the platforms and transiting vessels.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

This proposed rule should have a minimal economic impact on vessels operated by small entities. The proposal amends existing TSS's. This action improves safety for commercial vessels using the TSS by reducing the risk of collisions, allisions, and groundings. Vessels voluntarily transiting the TSS's will have to transit an additional 1.6 to 3.95 nautical miles per trip, depending on the route traveled. The additional transit distance results in increased vessel operating costs ranging from approximately $84 to $204 per trip. Vessels that tend to use the TSS's are commercial vessels such as containerships, freighters, and tankers. These vessels by their very nature are large in size and capable of operating in an offshore environment. Because of their large size most of them would not qualify as small entities. However, even if a vessel does qualify as a small entity, the impact of the additional $84 to $204 per trip would be an insignificant increase to the overall cost of its complete voyage.

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult George Detweiler, Coast Guard, Marine Transportation Specialist, at 202-267-0574.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

We have analyzed this proposed rule under Executive Order 13132 and have determined that it does not have implications for federalism under that Order.

Title I of the Ports and Waterways Safety Act (33 U.S.C. 1221 et seq.) (PWSA) authorizes the Secretary to promulgate regulations to designate and amend traffic separation schemes (TSS's) to protect the marine environment. In enacting PWSA in 1972, Congress found that advance planning and consultation with the affected States and other stakeholders was necessary in the development and implementation of a TSS. Throughout the history of the development of the TSS in the approaches to Los Angeles—Long Beach, California, we have consulted with the LA/LB Harbor Safety Committee (“HSC”), the affected state and federal pilot's associations, vessel operators, users, and all affected stakeholders. The LA/LB HSC, which was established by the State of California, includes all the principal waterway users of the LA/LB ports and other key agencies. The HSC was an active participant in various meetings with the Coast Guard and has contributed to this rulemaking.

Presently, there are no California State laws or regulations concerning the same subjects as are contained in this proposed rule. We understand the state does not contemplate issuing any such rules. However, it should be noted, that by virtue of the PWSA authority, the TSS proposed in this rule will preempt any state rule on the same subject.

In order to be effective against foreign flag vessels on the high seas, TSS's must be submitted to, approved by, and implemented by the International Maritime Organization (IMO). Individual states are not represented at IMO; that is the role of the federal government. The Coast Guard is the principal United States agency responsible for advancing the interests of the United States at IMO. We recognize, however, the interest of all local stakeholders as we work at IMO to advance the goals of this TSS. We will continue to work closely with such stakeholders to implement the final rule to ensure that the waters in the approaches to Los Angeles—Long Beach affected by this proposed rule are made safer and more environmentally secure.

Unfunded Mandates

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (34)(I) of Commandant Instruction M16475.lC, this rule is categorically excluded from further environmental documentation. This rule proposes adjusting an existing traffic separation scheme. A “Categorical Exclusion Determination” is available in the docket where indicated under ADDRESSES.

List of Subjects in 33 CFR Part 167

Harbors, Marine safety, Navigation (water), and Waterways.

For the reasons discussed in the preamble, the Coast Guard proposes to amend 33 CFR part 167 as follows:

PART 167—OFFSHORE TRAFFIC SEPARATION SCHEMES

1. The authority citation for part 167 continues to read as follows:

Authority: 33 U.S.C. 1223; 49 CFR 1.46.

2. Add §§ 167.500 through 167.503 to read as follows:

§ 167.500 In the approaches to Los Angeles-Long Beach Traffic Separation Scheme: General.

The Traffic Separation Scheme in the approaches to Los Angeles-Long Beach consists of three parts: a Precautionary Area, a Western Approach, and a Southern Approach. The specific areas in the approaches to Los Angeles-Long Beach are described in §§ 167.501 through 167.503. The geographic coordinates in §§ 167.501 through 167.503 are defined using North American Datum 1983 (NAD 83).

§ 167.501 In the approaches to Los Angeles/Long Beach: Precautionary area.

(a) The precautionary area consists of the water area enclosed by the Los Angeles-Long Beach breakwater and a line connecting Point Fermin Light at 33°42.30′N, 118°17.60′W, with the following geographical positions:

Latitude | Longitude
33°35.50′N | 118°17.60′W
33°35.50′N | 118°09.00′W
33°37.70′N | 118°06.50′W
33°43.40′N | 118°10.80′W

(b) Pilot boarding areas are located within the precautionary area described in paragraph (a) of this section. Specific regulations pertaining to vessels operating in these areas are contained in 33 CFR 165.1109(d).

§ 167.502 In the approaches to Los Angeles-Long Beach: Western approach.

(a) A separation zone is bounded by a line connecting the following geographical positions:

Latitude | Longitude
33°37.70′N | 118°17.60′W
33°36.50′N | 118°17.60′W
33°36.50′N | 118°23.10′W
33°43.20′N | 118°36.90′W
33°44.90′N | 118°35.70′W
33°37.70′N | 118°20.90′W

(b) A traffic lane for northbound coastwise traffic is established between the separation zone and a line connecting the following geographical positions:

Latitude | Longitude
33°38.70′N | 118°17.60′W
33°38.70′N | 118°20.60′W
33°45.80′N | 118°35.10′W

(c) A traffic lane for southbound coastwise traffic is established between the separation zone and a line connecting the following geographical positions:

Latitude | Longitude
33°35.50′N | 118°17.60′W
33°35.50′N | 118°23.43′W
33°42.30′N | 118°37.50′W

§ 167.503 In the approaches to Los Angeles-Long Beach TSS: Southern approach.

(a) A separation zone is established bounded by a line connecting the following geographic positions:

Latitude | Longitude
33°35.50′N | 118°10.30′W
33°35.50′N | 118°12.75′W
33°19.70′N | 118°03.50′W
33°19.00′N | 118°05.60′W

(b) A traffic lane for northbound traffic is established between the separation zone and a line connecting the following geographical positions:

Latitude | Longitude
33°35.50′N | 118°09.00′W
33°20.00′N | 118°02.30′W

(c) A traffic lane for southbound traffic is established between the separation zone and a line connecting the following geographical positions:

Latitude | Longitude
33°35.50′N | 118°14.00′W
33°18.70′N | 118°06.75′W

Dated: July 18, 2000.
Joseph J. Angelo,
Acting Assistant Commandant for Marine, Safety and Environmental Protection.

[FR Doc. 00-19205 Filed 7-27-00; 8:45 am]

BILLING CODE 4910-15-U